INTERNATIONAL TRADE COMMISSION

[Investigation Nos. 731-TA-825-826 (Fourth Review)]

Certain Polyester Staple Fiber From South Korea and Taiwan

Determinations

On the basis of the record ¹ developed in the subject five-year reviews, the United States International Trade Commission (“Commission”) determines, pursuant to the Tariff Act of 1930 (“the Act”), that revocation of the antidumping duty orders on certain polyester staple fiber from South Korea and Taiwan would be likely to lead to continuation or recurrence of material injury to an industry in the United States within a reasonably foreseeable time.

¹ The record is defined in § 207.2(f) of the Commission's Rules of Practice and Procedure (19 CFR 207.2(f)).

Background

The Commission instituted these reviews on January 3, 2022 (87 FR 119) and determined on April 8, 2022, that it would conduct expedited reviews (87 FR 38780, June 29, 2022).

The Commission made these determinations pursuant to section 751(c) of the Act (19 U.S.C. 1675(c)). It completed and filed its determinations in these reviews on August 8, 2022. The views of the Commission are contained in USITC Publication 5341 (August 2022), entitled Certain Polyester Staple Fiber from South Korea and Taiwan: Investigation Nos. 731-TA-825-826 (Fourth Review).

By order of the Commission.
Issued: August 8, 2022.
Katherine Hiner,
Acting Secretary to the Commission.

[FR Doc. 2022-17313 Filed 8-11-22; 8:45 am]

BILLING CODE 7020-02-P